ENVIRONMENTAL PROTECTION AGENCY

[FRL-7401-3]

Proposed Agency Information Collection Activities: Continuing Collection; Comment Request; Information Collection Request for MACT Reporting and Recordkeeping Requirements for the Hazardous Waste Combustors

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Information Collection Request for MACT Reporting and Recordkeeping Requirements for the Hazardous Waste Combustors, EPA ICR Number 1773.06, OMB Control Number 2050-0171, expires February 28, 2003. In addition, EPA is also taking into account all subsequent changes to this rule that have been made since its promulgation, and is consolidating these changes under EPA ICR # 1773.06. Before submitting the ICR to OMB for review and approval, EPA is soliciting comments on specific aspects of the proposed information collection as described below.

DATES: Comments must be submitted on or before December 30, 2002.

ADDRESSES: Comments must be submitted electronically, by mail, or through hand delivery/courier. Follow the detailed instructions as provided in Unit I.D. of the SUPPLEMENTARY INFORMATION section.

FOR FURTHER INFORMATION CONTACT: For general information, call the RCRA Call Center 1-(800) 424-9346. For specific information regarding this notice, call Shiva Garg, (703) 308-8459, fax number (703) 308-8433, e-mail garg.shiva@epa.gov.

SUPPLEMENTARY INFORMATION:

I. General Information

A. Affected Entities

Entities potentially affected by this action are hazardous waste combustors (HWCs) covered by 40 CFR part 63 (Subpart EEE) which generate, treat and store hazardous waste. Examples include hazardous waste incinerators, cement kilns and lightweight aggregate kilns that burn hazardous waste.

B. How Can I Get Copies of This Document and Other Related Information?

1. Docket. EPA has established an official public docket for this ICR under Docket ID No. RCRA-2002-0030. The official public docket consists of the documents specifically referenced in the ICR, any public comments received, and other information related to this ICR. Although a part of the official docket, the public docket does not include Confidential Business Information (CBI) or other information whose disclosure is restricted by statute. The official public docket is the collection of materials that is available for public viewing at the RCRA Docket in the EPA Docket Center (EPA/DC), EPA West, Room B102, 1301 Constitution Ave., NW., Washington, DC 20004. The EPA Docket Center Public Reading Room is open from 8:30 a.m. to 4:30 p.m., Monday through Friday, excluding legal holidays. The telephone number for the Reading Room is (202) 566-1742, and the telephone number for the RCRA Docket is (202) 566-0270.

2. Electronic Access. You may access this Federal Register document electronically through the EPA Internet under the “Federal Register” listings at http://www.epa.gov/fedrgstr/.

You may use EPA Dockets at http://www.epa.gov/edocket/ to submit or view public comments, access the index listing of the contents of the official public docket, and to access those documents in the public docket that are available electronically. Once in the system, select “search,” then key in the docket identification number.

Certain types of information will not be placed in the EPA Dockets. Information claimed as CBI, and other information whose disclosure is restricted by statute, which is not included in the official public docket, will not be available for public viewing in EPA's electronic public docket. EPA's policy is that copyrighted material will not be placed in EPA's electronic public docket, but will be available only in printed paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket, visit EPA Dockets online or see 67 FR 38102, May 31, 2002.

C. How and To Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments in formulating a final decision. However, late comments may be considered if time permits. If you wish to submit CBI or information that is otherwise protected by statute, please follow the instructions in Unit I.D. Note: Do not use EPA Dockets or e-mail to submit CBI or information protected by statute.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

(i) EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “Search,” and then key in Docket ID No. RCRA-2002-0030. The system is an “anonymous access” system, which means EPA will not know your identity, e-mail address, or other contact information unless you provide it in the body of your comment.

(ii) E-mail. Comments may be sent by electronic mail (e-mail) to rcra-docket@epa.gov, Attention Docket ID No. RCRA-2002-0030. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

(iii) Disk or CD ROM. You may submit comments on a disk or CD ROM that you mail to the mailing address identified in Unit I.C.2. These electronic submissions will be accepted in WordPerfect or ASCII file format. Avoid the use of special characters and any form of encryption.

2. By Mail. Send one original and two copies of your comments to: RCRA Docket, Environmental Protection Agency, (Mailcode 5305T), 1200 Pennsylvania Ave., NW., Washington, DC, 20460, Attention Docket ID No. RCRA-2002-0030 .

3. By Hand Delivery or Courier. Deliver your comments to: RCRA Docket in the EPA Docket Center (EPA/DC), EPA West, Room B102, 1301 Constitution Ave., NW., Washington, DC 20004. Attention Docket ID No. RCRA-2002-0030. Such deliveries are only accepted during the Docket's normal hours of operation as identified in Unit I.B.

4. By Facsimile. Fax your comments to: (202) 566-0224, Attention Docket ID. No. RCRA-2002-0030.

D. How Should I Submit CBI to the Agency?

Do not submit information that you consider to be CBI electronically through EPA's electronic public docket or by e-mail. An original and two copies of the CBI must be submitted under separate cover to: RCRA CBI Document Control Officer, Office of Solid Waste (5305W), U.S. Environmental Protection Agency, 1200 Pennsylvania, Avenue NW., Washington, DC 20460. Attention Docket ID No. RCRA-2002-0030. You may claim information that you submit to EPA as CBI by marking any part or all of that information as CBI. If you submit CBI on disk or CD ROM, mark the outside of the disk or CD ROM as CBI, and then identify electronically within the disk or CD ROM the specific information that is CBI. Information so marked will not be disclosed except in accordance with procedures set forth in 40 CFR Part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified in the FOR FURTHER INFORMATION CONTACT section.

E. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

F. What Information Is EPA Particularly Interested in?

Pursuant to section 3506(c)(2)(A) of the Paperwork Reduction Act, EPA specifically solicits comments and information to enable it to:

(i) Evaluate whether the proposed collections of information are necessary for the proper performance of the functions of the Agency, including whether the information will have practical utility.

(ii) Evaluate the accuracy of the Agency's estimates of the burdens for reporting and record Keeping requirements of the proposed collections of information.

(iii) Enhance the quality, utility, and clarity of the information to be collected; and

(iv) Minimize the burden of the collections of information on those who are to respond, including through the use of appropriate automated or electronic collection technologies or other forms of information technology, e.g., permitting electronic submission of responses.

II. Specific Information About This ICR Renewal

A. Title: Information Collection Request for MACT Reporting and Record Keeping Requirements for the Hazardous Waste Combustors (OMB Control No. 2050-0171; EPA ICR No.1773.06), expiring February 28, 2003. This is a request for extension of a currently approved collection.

B. Abstract: EPA regulates the burning of hazardous waste by several source categories of hazardous waste combustors under 40 CFR Part 63, Parts 264/265 (Subpart O), and Part 266 (Subpart H). On September 30, 1999, EPA promulgated (64 FR 52828) standards to control emissions of hazardous air pollutants from incinerators, cement kilns and lightweight aggregate kilns that burn hazardous wastes under 40 CFR Part 63. The ICR # 1773.02 pertaining to the provisions of this rule was approved under OMB Control # 2050-0171, expires on February 28, 2003, and is being renewed.

The emission standards of the September 30, 1999 rule updated the earlier rules in effect on these sources under the Resource Conservation and Recovery Act (RCRA) under 40 CFR Parts 264 and 265, and were issued using both Clean Air Act (CAA) and RCRA authorities in a coordinated fashion. Rules under CAA created maximum achievable control technology (MACT) based standards for hazardous air pollutant emissions, assuring that combustion of hazardous waste in these devices is properly controlled, while the RCRA provisions satisfied our obligation to ensure that hazardous waste combustion is conducted in a manner protective of human health and the environment. We thus consolidated regulatory control of hazardous waste combustion into a single set of regulations, thereby minimizing the potential for conflicting or duplicative federal requirements and burden on the regulated community.

A number of parties, representing interests of both industrial sources and of the environmental community, sought judicial review of the September 30, 1999 rule. On July 24, 2001, the United States Court of Appeals for the District of Columbia Circuit (the Court) granted the Sierra Club's petition for review and vacated the challenged portions of the rule. However, the Court invited us and the parties to the proceeding to file a motion to delay issuance of its mandate to request either that the current standards remain in place or that EPA be allowed reasonable time to develop interim standards. EPA and the parties to the proceeding agreed to take several actions, and the Court concurred on them. First, we agreed to issue a one-year extension to the compliance date of September 30, 2002 promulgated in the September 30, 1999 rule. On December 6, 2001 (66 FR 63313), we published a final rule which extended the compliance date to September 30, 2003. Second, we committed to publish an interim rule with revised emission standards and to finalize several compliance and implementation amendments to the rule. These interim standards and compliance and implementation amendments were promulgated on February 13 and 14, 2002 (67 FR 6792 and 67 FR 6968). The interim standards replace the vacated standards, until we finalize final replacement standards that comply with the Court's mandate. Finally, we agreed to issue the final replacement standards by June 14, 2005. EPA also issued three technical correction notices to the rule since the last ICR was approved. They were published at 65 FR 42292 (July 10, 2000), 65 FR 67268 (November 9, 2000), and 66 FR 24270 (May 14, 2001). This ICR revision takes into account the changes to the paperwork burden related to all the above stated changes to the September 30, 1999 rule to-date, as well as to the changes in the hazardous waste combustor universe since the last ICR approval.

During the settlement negotiations, we have had several meetings with all the parties affected by the rule. We collected new information about the operations of the HWCs through these meetings. We also obtained newer test burn and trial burn reports from the EPA Regions and the States, which updated our earlier information on the regulated community. We then published a Federal Register notice of data availability (NODA) for these sources at 67 FR 44452 (July 2, 2002) inviting public comments on our updated database. In response, we received over 55 comments, many of which included detailed information about the operation of the HWCs and supplementary test reports. These comments are available for public viewing under Docket # RCRA-2002-0019 and were used in the preparation of this renewal ICR.

The information collection required under this ICR is mandatory for the regulated sources, as it is essential to properly enforce the emission limitation requirements of the rule and will be used to further the proper performance of the functions of EPA. EPA believes that if the minimum requirements specified under the regulations are not met, EPA will not fulfill its Congressional mandate to protect public health and the environment. EPA, however, has made extensive efforts to integrate the monitoring, compliance testing and recordkeeping requirements of the CAA and RCRA, so that the facilities are able to avoid the burden of duplicate and unnecessary submissions. We also ensure, to the fullest extent by law, the confidentiality of the submitted to information. EPA may not conduct or sponsor, and a person is not required to respond to, a collection of information unless it displays a currently valid OMB control number. The OMB control numbers for EPA's regulations are listed in 40 CFR Part 9 and 48 CFR Chapter 15.

C. Burden Statement:The current annual burden to the 171 respondents under this ICR is estimated at 68,269 hours, or an average of 399 hours per respondent. See ICR Numbers 1773.02 thru 1773.06 in the Docket No. RCRA-2002-0030 for details. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 23, 2002.
Barnes Johnson,
Acting Director, Office of Solid Waste.

[FR Doc. 02-27621 Filed 10-29-02; 8:45 am]

BILLING CODE 6560-50-P